DEPARTMENT OF LABOR

Office of the Secretary

Submission for OMB Review; Comment Request

May 27, 2003.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation, contact Darrin King on (202) 693-4129 (this is not a toll-free number) or e-Mail: king.darrin@dol.gov.

Comments should be sent to Office of Information and Regulatory Affairs, Attn: OMB Desk Officer for the Occupational Safety and Health Administration (OSHA), Office of Management and Budget, Room 10235, Washington, DC 20503, (202) 395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Occupational Safety and Health Administration.

Title: Standard on Walking-Working Surfaces—29 CFR part 1910 Subpart D.

OMB Number: 1218-0199.

Frequency: On occasion.

Type of Response: Recordkeeping and Third party disclosure.

Affected Public: Business or other for-profit; Not-for-profit institutions; Federal Government; and State, Local or Tribal Government.

Number of Respondents: 10,000.

Information collection requirement | Annual responses | Average response time (hours) | Annual burden hours
Load Limit Marking—29 CFR 1910.22(d)(1) | 2,100 | 0.33 | 693
Marking of Portable Metal Ladders Having Defects—29 CFR 1910.26(c)(2)(vii) | 10,000 | 0.05 | 500
Maintaining and Disclosing Drawings and Specifications of Outrigger Scaffolds Designed by a Registered Professional Engineer—29 CFR 1910.28(e)(3) | 0 | 0.00 | 0
Total | 12,100 |  | 1,193

Total Annualized capital/startup: $0.

Total annual costs (operating/maintaining systems or purchasing services): $0.

Description: The collections of information contained in the Walking-Working Surfaces standard are necessary to protect workers from the collapse of overloaded floors and the failure of defective portable metal ladders.

Paragraph 1910.22(d)(1) requires that load limits approved by the building official be marked on plates supplied and securely affixed by the owner of the building, or his duly authorized agent, in a conspicuous place in each space to which they relate. The plates are not to be removed or defaced but, if lost, removed, or defaced, they shall be replaced by the owner or his agent.

Under paragraph 1910.26(c)(2)(vii), ladders having defects are to be marked and taken out of service until repaired by either the maintenance department or the manufacturer.

Paragraph 1910.28(e)(3) requires that outrigger scaffolds designed by a registered professional engineer be constructed and erected in accordance with table D-16 of this section. A copy of the detailed drawings and specifications showing the sizes and spacing of members shall be kept on the job.

Ira L. Mills,
Departmental Clearance Officer.

[FR Doc. 03-25106 Filed 10-2-03; 8:45 am]

BILLING CODE 4510-23-P